DEPARTMENT OF ENERGY

Energy Information Administration

Agency Information Collection Activities: Proposed Extension of Collection; Comment Request

AGENCY: Energy Information Administration, DOE.

ACTION: Agency information collection activities: Proposed collection; comment request.

SUMMARY: The Energy Information Administration (EIA) is soliciting comments on the proposed three-year extension to the Form EIA-28, Financial Reporting System (FRS), under section 3507(h)(1).

DATES: Written comments must be submitted within 60 days of the publication of this notice. If you anticipate difficulty in submitting comments within that period, contact the person identified below as soon as possible.

ADDRESSES: Comments should be directed to Gregory P. Filas of EIA. To ensure receipt of the comments by the due date, submission by FAX (202-586-9753) or e-mail (greg.filas@eia.doe.gov) is recommended. Mr. Filas mailing address is Energy Information Administration (EI-62), Financial Analysis Team, Forrestal Building, U.S. Department of Energy, Washington, DC 20585. Mr. Filas may be telephoned at (202) 586-1347.

FOR FURTHER INFORMATION CONTACT: Requests for additional information or copies of the form and instructions should be directed to Mr. Filas at the address listed above.

SUPPLEMENTARY INFORMATION:

I. Background

II. Current Actions

III. Request for Comments

I. Background

The Federal Energy Administration Act of 1974, (Pub. L. No. 93-275, 15 U.S.C. 761 et seq.), and the Department of Energy Organization Act (Pub. L. No. 95-91, 42 U.S.C. 7101 et seq.), require the Energy Information Administration (EIA) to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under section 3507(h) of the Paperwork Reduction Act of 1995.

Under Pub. L. 95-91, section 205(h), the Administrator of the EIA is required to “identify and designate” the major energy companies who must annually file Form EIA-28 to ensure that the data collected provide “a statistically accurate profile of each line of commerce in the energy industry in the United States.” Data collected on Form EIA-28 are published and used in analyses of the energy industry.

II. Current Actions

EIA is proposing a three-year extension with no changes to the previously approved Form EIA-28.

III. Request for Comments

Prospective respondents and other interested persons are invited to comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the Form EIA-28 instructions and definitions clear and sufficient? If not, which instructions require clarification?

B. Can information be submitted by the due date?

C. Public reporting burden for the Form EIA-28 collection, including proposed changes, is estimated to average 450 hours per response. The estimated burden includes the total time, effort, or financial resources expended to generate, maintain, retain, disclose and provide the information.

Please comment on (1) the accuracy of the agency's estimate and (2) how the agency could minimize the burden of collecting this information, including the use of information technology.

D. The agency estimates respondents will incur no additional costs for reporting other than the hours required to complete the collection. What is the estimated: (1) Total dollar amount annualized for capital and start-up costs; and (2) recurring annual costs of operation and maintenance, and purchase of services associated with this data collection?

E. Does any other Federal, State, or local agency collect similar information? If so, specify the agency, the data element(s), and the method(s) of collection.

As a Potential User

A. Is the information useful at the levels of detail indicated on the form?

B. For what purpose(s) would the information be used? Be specific.

C. Are there alternate sources for the information and are they useful? If so, what are their deficiencies and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC.
Nancy J. Kirkendall,
Director, Statistics and Methods Group, Energy Information Administration.

[FR Doc. 02-3889 Filed 2-15-02; 8:45 am]

BILLING CODE 6450-01-P